INTERNATIONAL TRADE COMMISSION

[Investigation Nos. 340-E and H (Second Review)]

Solid Urea From Russia and Ukraine

AGENCY: United States International Trade Commission.

ACTION: Revised schedule for the subject reviews.

DATES: Effective July 23, 2005.

FOR FURTHER INFORMATION CONTACT: Olympia DeRosa Hand (202-205-3182), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these reviews may be viewed on the Commission's electronic docket (EDIS) at http://edis.usitc.gov.

SUPPLEMENTARY INFORMATION: On April 7. 2005, the Commission established a schedule for the conduct of the second reviews of the subject investigations (70 FR 19502, April 13, 2005). The Commission has determined to exercise its authority to extend the review period by up to 90 days pursuant to 19 U.S.C. 1675(c)(5)(B). The Commission, therefore, is revising its schedule to conform with its extension.

The Commission's new schedule for the reviews is as follows: requests to appear at the hearing must be filed with the Secretary to the Commission not later than September 12, 2005; the prehearing conference will be held at the U.S. International Trade Commission Building at 9:30 a.m. on September 14, 2005; the prehearing staff report will be placed in the nonpublic record on September 1, 2005; the deadline for filing prehearing briefs is September 13, 2005; the hearing will be held at the U.S. International Trade Commission Building at 9:30 a.m. on September 22, 2005; the deadline for filing posthearing briefs is October 3, 2005; the Commission will make its final release of information on November 7, 2005; and final party comments are due on November 9, 2005.

For further information concerning the conduct of these reviews and rules of general application, consult the Commission's Rules of Practice and Procedure, part 201, subparts A through E (19 CFR part 201), and part 207, subparts A, D, E, and F (19 CFR part 207).

Authority: These reviews are being conducted under authority of title VII of the Tariff Act of 1930; this notice is published pursuant to section 207.62 of the Commission's rules.

Issued: June 24, 2005.
By order of the Commission.
Marilyn R. Abbott,
Secretary to the Commission.

[FR Doc. 05-12848 Filed 6-28-05; 8:45 am]

BILLING CODE 7020-02-P